DEPARTMENT OF LABOR

Secretary's Order 02-2020—Procedures for Appointment of Individuals to Department of Labor Appellate Boards

1. Purpose. To cancel Secretary's Order 05-2018, which has created inefficiencies in the process by which individuals are appointed to the Department of Labor's appellate boards.

2. Authorities. This Order is issued under the authority of 5 U.S.C. 301 (Departmental Regulations) and 29 U.S.C. 551 et seq. (Establishment of Department; Secretary; Seal).

3. Background. The Secretary of Labor has the authority and responsibility to appoint the members of the Department's three appellate boards: the Administrative Review Board (ARB), the Benefits Review Board (BRB), and the Employees' Compensation Appeals Board (ECAB). In Secretary's Order 05-2018, the Secretary created a formal, multi-step process by which these appointments are made. Because this process has caused unnecessary inefficiencies in the appointment of individuals to the Department's appellate boards, the Secretary has decided to rescind Secretary's Order 05-2018.

4. Directives Affected. Secretary's Order 05-2018 is hereby cancelled, effective immediately

Dated: February 21, 2020.
Eugene Scalia,
Secretary of Labor.

[FR Doc. 2020-04020 Filed 3-5-20; 8:45 am]

BILLING CODE 4510-04-P